SECURITIES AND EXCHANGE COMMISSION

Sunshine Act Meeting

Notice is hereby given that, pursuant to the provisions of the Government in the Sunshine Act, Public Law 94-409, the Securities and Exchange Commission will hold an Open Meeting on Wednesday, March 1, 2017, at 10:00 a.m., in the Auditorium, Room L-002.

The subject matter of the Open Meeting will be:

• The Commission will consider whether to issue a request for comment on possible revisions to statistical and other disclosures affecting registrants in the financial services industry.

• The Commission will consider whether to adopt rule and form amendments to require registrants that file registration statements or reports subject to the exhibit requirements under Item 601 of Regulation S-K, or that file Forms F-10 or 20-F, to include a hyperlink to each exhibit listed in the exhibit index of these filings, and to require registrants to submit such registration statements and reports on EDGAR in HTML format.

• The Commission will consider whether to propose amendments to rules and forms to require the use of the Inline XBRL format for the submission of operating company financial statement information and mutual fund risk/return summaries, eliminate the requirement for filers to post Interactive Data Files on their Web sites and terminate the Commission's voluntary program for the submission of financial statement information interactive data that is currently available only to investment companies and certain other entities.

• The Commission will consider whether to propose amendments to Rule 15c2-12 under the Securities Exchange Act of 1934, which would amend the list of event notices that a broker, dealer, or municipal securities dealer acting as an underwriter in a primary offering of municipal securities, must reasonably determine that an issuer or an obligated person has undertaken, in a written agreement or contract for the benefit of holders of the municipal securities, to provide to the Municipal Securities Rulemaking Board. The proposed amendments would add two event notices relating to certain financial obligations incurred by issuers and obligated persons.

At times, changes in Commission priorities require alterations in the scheduling of meeting items.

For further information and to ascertain what, if any, matters have been added, deleted, or postponed, please contact Brent J. Fields in the Office of the Secretary at (202) 551-5400.

Dated: February 22, 2017.
Brent J. Fields,
Secretary.

[FR Doc. 2017-03849 Filed 2-23-17; 11:15 am]

BILLING CODE 8011-01-P